DEPARTMENT OF HEALTH AND HUMAN SERVICES

Centers for Disease Control and Prevention

[CDC-2018-0038; Docket Number NIOSH-312]

Continuing To Protect the Nanotechnology Workforce: NIOSH Nanotechnology Research Plan for 2018-2025

AGENCY: National Institute for Occupational Safety and Health (NIOSH) of the Centers for Disease Control and Prevention (CDC), Department of Health and Human Services (HHS).

ACTION: Notice of availability.

SUMMARY: NIOSH announces the availability of Continuing to Protect the Nanotechnology Workforce: NIOSH Nanotechnology Research Plan for 2018-2015.

DATES: The final document was published on January 25, 2019 on the CDC website.

ADDRESSES: The document may be obtained at the following link: https://www.cdc.gov/niosh/docs/2019-116/.

FOR FURTHER INFORMATION CONTACT: Charles L. Geraci (CGeraci@cdc.gov), National Institute for Occupational Safety and Health, Centers for Disease Control and Prevention, 1090 Tusculum Ave., MS C-14, Cincinnati, OH 45226, phone (513) 533-8339 (not a toll free number).

SUPPLEMENTARY INFORMATION: On April 24, 2018, NIOSH published a request for public review in the Federal Register [83 FR 17824] of the draft version of the document Continuing To Protect the Nanotechnology Workforce: NIOSH Nanotechnology Research Plan for 2018-2025. All comments received were reviewed and addressed where appropriate.

John J. Howard,
Director, National Institute for Occupational Safety and Health, Centers for Disease Control and Prevention.

[FR Doc. 2019-01039 Filed 2-4-19; 8:45 am]

BILLING CODE 4163-19-P